DEPARTMENT OF LABOR

29 CFR Part 90

Employment and Training Administration

20 CFR Parts 617 and 618

[Docket No. ETA-2019-0009]

RIN 1205-AB78

Trade Adjustment Assistance for Workers

AGENCY: Employment and Training Administration, Labor.

ACTION: Proposed rule; notification of extension of public comment period.

SUMMARY: The Employment and Training Administration (ETA) of the Department of Labor (Department) is issuing this document to advise the public of an extension to the public comment period. Initially, the proposed rule established a public comment period from November 7, 2019 through December 9, 2019. The Department has extended the deadline for submitting public comments to December 11, 2019, due to a website outage.

DATES: The comment period for the proposed rule published November 7, 2019, at 84 FR 60150 is extended. Send comments on or before December 11, 2019.

ADDRESSES: You may send comments, identified by Docket No. ETA-2019-0009 and Regulatory Identification Number (RIN) 1205-AB78, by any of the following methods:

• Federal eRulemaking Portal: http://www.regulations.gov. Instructions for how to submit public comments electronically on the Federal eRulemaking Portal can be found on the http://www.regulations.gov website under “Help” > “How to use Regulations.gov” > “Submit a Comment.”

• Mail: Heidi Casta, Deputy Administrator, Office of Policy Development and Research, U.S. Department of Labor, Employment and Training Administration, 200 Constitution Avenue NW, Room N-5641, Washington, DC 20210.

• Hand Delivery/Courier: Heidi Casta, Deputy Administrator, Office of Policy Development and Research, U.S. Department of Labor, Employment and Training Administration, 200 Constitution Avenue NW, Room N-5641, Washington, DC 20210.

Instructions: All submissions received must include the agency name and docket number for this rulemaking or “RIN 1205-AB78.”

Please submit your comments by only one method. Please be advised that the Department will post all comments received that relate to this NPRM without changes to http://www.regulations.gov, including any personal information provided. The http://www.regulations.gov website is the Federal e-Rulemaking Portal and all comments posted there are available and accessible to the public. Therefore, the Department recommends that commenters remove personal information (either about themselves or others) such as Social Security numbers, personal addresses, telephone numbers, and email addresses included in their comments, as such information may become easily available to the public via the http://www.regulations.gov website. It is the responsibility of the commenter to safeguard personal information.

Also, please note that due to security concerns, postal mail delivery in Washington, DC may be delayed. Therefore, the Department encourages the public to submit comments on http://www.regulations.gov.

Docket: For access to the docket to read background documents or comments received, go to http://www.regulations.gov (search using RIN 1205-AB78 or Docket No. ETA-2019-0009). The Department also will make all the comments it receives available for public inspection by appointment during normal business hours at the Office of Policy Development and Research (OPDR), U.S. Department of Labor, Employment and Training Administration, 200 Constitution Avenue NW, Room N-5641, Washington, DC 20210. If you need assistance to review the comments, the Department will provide appropriate aids such as readers or print magnifiers. The Department will make copies of this NPRM available, upon request, in large print and electronic file. To schedule an appointment to review the comments or obtain the NPRM in an alternative format or both, contact OPDR at (202) 693-3700 (this is not a toll-free number). You may also contact this office at the address listed above.

FOR FURTHER INFORMATION CONTACT: Heidi Casta, Deputy Administrator, Office of Policy Development and Research, U.S. Department of Labor, Employment and Training Administration, 200 Constitution Avenue NW, Room N-5641, Washington, DC 20210, Telephone: (202) 693-3700 (voice) (this is not a toll-free number) or 1-800-326-2577 (Telecommunications Device for the Deaf).

SUPPLEMENTARY INFORMATION: The ETA is extending the public comment period for the proposed rule published in the Federal Register on November 7, 2019 (84 FR 60150), which established a public comment period from November 7, 2019 through December 9, 2019. The Department has extended the deadline for submitting public comments to December 11, 2019, due to the www.regulations.gov website outage. All substantive comments received by December 11, 2019, will be addressed in the final rule.

Signed at Washington, DC.
John P. Pallasch,
Assistant Secretary for Employment and Training, Labor.

[FR Doc. 2019-26785 Filed 12-9-19; 4:15 pm]

BILLING CODE 4510-FN-P